COMMITTEE FOR THE IMPLEMENTATION OF TEXTILE AGREEMENTS

Announcement of Import Restraint Limits for Certain Cotton, Wool, Man-Made Fiber, Silk Blend and Other Vegetable Fiber Textiles and Textile Products Produced or Manufactured in Thailand

October 8, 2002.

AGENCY: Committee for the Implementation of Textile Agreements (CITA).

ACTION: Issuing a directive to the Commissioner of Customs establishing limits.

EFFECTIVE DATE: January 1, 2003.

FOR FURTHER INFORMATION CONTACT: Ross Arnold, International Trade Specialist, Office of Textiles and Apparel, U.S. Department of Commerce (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The import restraint limits for textile products, produced or manufactured in Thailand and exported during the period January 1, 2003 through December 31, 2003 are based on limits notified to the Textiles Monitoring Body pursuant to the Uruguay Round Agreement on Textiles and Clothing (ATC).

In the letter published below, the Chairman of CITA directs the Commissioner of Customs to establish the 2003 limits.

A description of the textile and apparel categories in terms of HTS numbers is available in the CORRELATION: Textile and Apparel Categories with the Harmonized Tariff Schedule of the United States (see Federal Register notice 66 FR 65178, published on December 18, 2001). Information regarding the 2003 CORRELATION will be published in the Federal Register at a later date.

James C. Leonard III,
Chairman, Committee for the Implementation of Textile Agreements.

Committee for the Implementation of Textile Agreements

October 8, 2002.

Commissioner of Customs,

Department of the Treasury, Washington, DC 20229.

Dear Commissioner: Pursuant to section 204 of the Agricultural Act of 1956, as amended (7 U.S.C. 1854); Executive Order 11651 of March 3, 1972, as amended, and the Uruguay Round Agreement on Textiles and Clothing (ATC), you are directed to prohibit, effective on January 1, 2003, entry into the United States for consumption and withdrawal from warehouse for consumption of cotton, wool, man-made fiber, silk blend and other vegetable fiber textiles and textile products in the following categories, produced or manufactured in Thailand and exported during the twelve-month period beginning on January 1, 2003 and extending through December 31, 2003.

Category | Twelve-month restraint limit
Level not in a Group |
239pt. ¹ | 2,883,381 kilograms.
Levels in Group I |
200 | 1,881,872 kilograms.
218 | 28,031,246 square meters.
219 | 10,036,662 square meters.
300 | 7,527,496 kilograms.
301-P ² | 7,527,496 kilograms.
301-O ³ | 1,505,502 kilograms.
313-O ⁴ | 35,128,315 square meters.
314-O ⁵ | 80,293,288 square meters.
315-O ⁶ | 50,183,304 square meters.
317-O/326-O ⁷ | 21,067,437 square meters.
363 | 32,619,148 numbers.
369-S ⁸ | 501,833 kilograms.
604 | 1,174,119 kilograms of which not more than 752,749 kilograms shall be in Category 604-A ⁹.
611-O ¹⁰ | 14,061,435 square meters.
613/614/615 | 75,842,768 square meters of which not more than 44,161,309 square meters shall be in Categories 613/615 and not more than 44,161,309 square meters shall be in Category 614.
617 | 27,387,665 square meters.
619 | 11,291,242 square meters.
620 | 11,291,242 square meters.
625/626/627/628/629 | 22,120,806 square meters of which not more than 17,564,156 square meters shall be in Category 625.
Group II |
237, 331pt.¹¹, 332-348, 351, 352, 359pt. ¹², 433-438, 440, 442-448, 459pt. ¹³, 631pt. ¹⁴, 633-648, 651, 652, 659-H ¹⁵, 659pt. ¹⁶, 845, 846 and 852, as a group | 430,013,156 square meters equivalent.
Sublevels in Group II |
331pt./631pt. | 824,914 dozen pairs.
334/634 | 978,575 dozen.
335/635 | 758,632 dozen.
336/636 | 501,833 dozen.
338/339 | 2,606,139 dozen.
340 | 451,651 dozen.
341/641 | 1,066,396 dozen.
342/642 | 928,392 dozen.
345 | 476,742 dozen.
347/348 | 1,280,778 dozen.
351/651 | 376,374 dozen.
659-H | 2,006,898 kilograms.
433 | 10,442 dozen.
434 | 12,890 dozen.
435 | 58,571 dozen.
438 | 19,334 dozen.
442 | 22,452 dozen.
638/639 | 3,071,521 dozen.
640 | 828,022 dozen.
645/646 | 501,833 dozen.
647/648 | 1,786,525 dozen.
¹ Category 239pt.: only HTS number 6209.20.5040 (diapers).
² Category 301-P: only HTS numbers 5206.21.0000, 5206.22.0000, 5206.23.0000, 5206.24.0000, 5206.25.0000, 5206.41.0000, 5206.42.0000, 5206.43.0000, 5206.44.0000 and 5206.45.0000.
³ Category 301-O: only HTS numbers 5205.21.0020, 5205.21.0090, 5205.22.0020, 5205.22.0090, 5205.23.0020, 5205.23.0090, 5205.24.0020, 5205.24.0090, 5205.26.0020, 5205.26.0090, 5205.27.0020, 5205.27.0090, 5205.28.0020, 5205.28.0090, 5205.41.0020, 5205.41.0090, 5205.42.0020, 5205.42.0090, 5205.43.0020, 5205.43.0090, 5205.44.0020, 5205.44.0090, 5205.46.0020, 5205.46.0090, 5205.47.0020, 5205.47.0090, 5205.48.0020 and 5205.48.0090.
⁴ Category 313-O: all HTS numbers except 5208.52.3035, 5208.52.4035 and 5209.51.6032.
⁵ Category 314-O: all HTS numbers except 5209.51.6015.
⁶ Category 315-O: all HTS numbers except 5208.52.4055.
⁷ Category 317-O: all HTS numbers except 5208.59.2085; Category 326-O: all HTS numbers except 5208.59.2015, 5209.59.0015 and 5211.59.0015.
⁸ Category 369-S: only HTS number 6307.10.2005.
⁹ Category 604-A: only HTS number 5509.32.0000.
¹⁰ Category 611-O: all HTS numbers except 5516.14.0005, 5516.14.0025 and 5516.14.0085.
¹¹ Categories 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
¹² Category 359pt.: all HTS numbers except 6115.19.8010, 6117.10.6010, 6117.20.9010, 6203.22.1000, 6204.22.1000, 6212.90.0010, 6214.90.0010, 6406.99.1550, 6505.90.1525, 6505.90.1540, 6505.90.2060 and 6505.90.2545.
¹³ Category 459pt.: all HTS numbers except 6115.19.8020, 6117.10.1000, 6117.10.2010, 6117.20.9020, 6212.90.0020, 6214.20.0000, 6405.20.6030, 6405.20.6060, 6405.20.6090, 6406.99.1505 and 6406.99.1560.
¹⁴ Category 631pt.: all HTS numbers except 6116.10.1730, 6116.10.4820, 6116.10.5520, 6116.10.7520, 6116.93.8800, 6116.93.9400, 6116.99.4800, 6116.99.5400 and 6116.99.9530.
¹⁵ Category 659-H: only HTS numbers 6502.00.9030, 6504.00.9015, 6504.00.9060, 6505.90.5090, 6505.90.6090, 6505.90.7090 and 6505.90.8090.
¹⁶ Category 659pt.: all HTS numbers except 6502.00.9030, 6504.00.9015, 6504.00.9060, 6505.90.5090, 6505.90.6090, 6505.90.7090, 6505.90.8090 (Category 659-H); 6115.11.0010, 6115.12.2000, 6117.10.2030, 6117.20.9030, 6212.90.0030, 6214.30.0000, 6214.40.0000, 6406.99.1510 and 6406.99.1540.

The limits set forth above are subject to adjustment pursuant to the provisions of the ATC and administrative arrangements notified to the Textiles Monitoring Body.

Products in the above categories exported during 2002 shall be charged to the applicable category limits for that year (see directives dated Nobember 27, 2001) to the extent of any unfilled balances. In the event the limits established for that period have been exhausted by previous entries, such products shall be charged to the limits set forth in this directive.

The conversion factors for Category 659-H and merged Categories 638/639 are 11.5 and 12.96, respectively.

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

James C. Leonard III,

Chairman, Committee for the Implementation of Textile Agreements.

[FR Doc. 02-26142 Filed 10-11-02; 8:45 am]

BILLING CODE 3510-DR-S